DEPARTMENT OF HOUSING AND URBAN DEVELOPMENT

[Docket No. FR-4574-N-01]

Fiscal Year 2000 Notice of Funding Availability for the Indian Housing Drug Elimination

AGENCY: Office of the Assistant Secretary for Public and Indian Housing, HUD.

ACTION: Notice of Funding Availability (NOFA).

SUMMARY: Purpose of the Program: To provide grants to eliminate drugs and drug-related crime in American Indian and Alaskan Native communities.

Available Funds: Approximately $22,000,000 in FY 1999 ($11 million) and FY 2000 ($11 million) funds is being made available for Indian Housing Drug Elimination Program (IHDEP) grants.

Eligible Applicants: Indian Tribes and recipients of assistance under the Native American Housing Assistance and Self-Determination Act of 1996 (NAHASDA recipients).

Application Deadline: July 10, 2000.

Match: None.

ADDITIONAL INFORMATION: If you are interested in applying for funding under this program, please read the balance of this NOFA which will provide you with detailed information regarding the submission of an application, program requirements, the application selection process to be used by HUD in selecting applications for funding, and other valuable information relative to an application submission and participation in the program covered by this NOFA.

I. Application Due Date, Submission Address, Application Kits, Further Information, and Technical Assistance

Application Due Date: July 10, 2000. HUD will not accept, at any time during the NOFA competition, application materials sent via facsimile (FAX) transmission.

(A) Delivered Applications. The application deadline for delivered applications under this NOFA is on or before 6 PM local time of the application due date.

(B) Mailed Applications. Applications will be considered timely filed if postmarked before midnight on the application due date and received by 6 PM local time within ten (10) days of that date.

(C) Applications Sent By Overnight Delivery. Overnight delivery items will be considered timely filed if received before or on the application due date by 6 PM local time, or upon submission of documentary evidence that they were placed in transit with the overnight delivery service by no later than the specified application due date.

Address For Submitting Applications. Submit an original and two identical copies of the application by the application due date at the local Area Office of Native American Programs (AONAP) Attention: local HUD Administrator, Area Office of Native American Programs (AONAP). A list of local offices is attached as Appendix A to this NOFA.

For Application Kits. To receive a copy of the Indian Housing Drug Elimination Program application kit, please call the Public and Indian Housing Resource Center at 1-800-955-2232. Persons with hearing or speech impairments may call the Center's TTY number at 1-800-483-2209. When requesting an application kit, please refer to the Indian Housing Drug Elimination Program (IHDEP). Please provide your name, address, including zip code, and telephone number (including area code). The application kit contains information on all exhibits, forms, and certifications required for IHDEP.

For Further Information and Technical Assistance. Please call the local AONAPs with jurisdiction over your Tribe/tribally designated housing entity (TDHE) or HUD's Public and Indian Housing Resource Center at 1-800-955-2232 or Tracy C. Outlaw, National Office of Native American Programs (ONAP), Department of Housing and Urban Development, 1999 Broadway, Suite 3390, Denver, CO 80202, telephone (303) 675-1600 (these are not toll-free numbers). Hearing or speech-impaired individuals may access this number via TTY by calling the toll-free Federal Information Relay Service at 1-800-877-8339. Also, please see ONAP's website at http://www.codetalk.fed.us.html where you will be able to download a copy of the IHDEP NOFA and application kit from the Internet.

II. Amount Allocated

Approximately $22 million is being made available under this NOFA, of which approximately $11 million is from the FY 1999 HUD Appropriations Act (Pub.L. 105-276, approved October 21, 1998) and approximately $11 million is from the FY 2000 HUD Appropriations Act (Pub.L. 106-74, approved October 20, 1999).

III. Program Description; Eligible Applicants; Eligible/Ineligible Activities

(A) Program Description. Funds are only available for Tribes and NAHASDA recipients to develop and finance drug and drug-related crime elimination efforts in their developments. You may use funds for enhancing security within your developments, making physical improvements to enhance security; and/or developing and implementing prevention, intervention and treatment programs to stop drug use in Indian housing communities.

(B) Eligible Applicants. Eligible applicants are only Indian Tribes (Tribes) and NAHASDA recipients. “NAHASDA recipient” means a recipient of assistance under the Native American Housing Assistance and Self-Determination Act of 1996 (NAHASDA), and has the same meaning as recipient provided in section 4 of the Native American Housing Assistance and Self-Determination Act of 1996 (25 U.S.C. 4101 et seq.). “NAHASDA recipient” includes both Tribes and TDHEs. (A Tribe can apply either in its own name or through its TDHE. A TDHE cannot apply on behalf of a Tribe that is applying on its own behalf.) Resident Management Corporations (RMCs), incorporated Resident Councils (RCs) and Resident Organizations (ROs) are eligible for funding as sub-grantees. RMCs RCs, and ROs that were operating pursuant to 24 CFR part 950 are eligible for funding from Tribes or TDHEs as subgrantees to develop security and substance abuse prevention programs.

If you are a Tribe/TDHE that submitted a Public and Indian Housing Drug Elimination Program (PIHDEP) application under the February 26, 1999 PIHDEP NOFA, you do not need to submit another IHDEP application under this NOFA. This application will be considered complete unless you receive notification from the AONAP in your jurisdiction informing you of the technical deficiencies that must be corrected in order for your application to be considered eligible for review. However, because of the changes that are Native American specific to this FY 1999—2000 IHDEP NOFA, we strongly suggest that you update the application that you submitted by the new IHDEP deadline of July 10, 2000. Please be advised that the new IHDEP NOFA contains changes in the five rating factors for evaluating applications for award and in the grant award amounts. If you need specific information or data from the application that you submitted in response to the February 26, 1999 NOFA, please contact the appropriate AONAP in your jurisdiction to obtain the information that you need.

If you are a Tribe/TDHE that responded to the Notice Withdrawing and Reissuing the FY 1999 PIHDEP NOFA published on May 12, 1999 (64 FR 25746) that requested that applicants submit documents based on submission requirements in Section III, A. through F. of that Notice, you will need to submit the required information in the FY 1999-2000 IHDEP application kit which contains all of the required forms and certifications for this IHDEP NOFA.

(C) Eligible/Ineligible Activities. IHDEP grants may be used for seven types of activities including: (1) Physical improvements specifically designed to enhance security; (2) programs designed to reduce use of drugs in and around Indian housing developments including drug-abuse prevention, intervention, referral, and treatment; (3) funding for non-profit resident management corporations, Resident Councils (RCs), and Resident Organizations (ROs) to develop security and drug abuse prevention programs involving site residents; (4) employment of security personnel; (5) employment of personnel to investigate and provide evidence in administrative or judicial proceedings; (6) reimbursement of local law enforcement agencies for additional security and protective services; and (7) training, communications equipment, and related equipment for use by voluntary tenant patrols.

Following is a discussion by activity type of what can and cannot be funded and specific requirements or items that need to be discussed in your application if you are including that activity in your application.

(1) Physical Improvements to Enhance Security. (a) Physical improvements specifically designed to enhance security may include: installing barriers, speed bumps, lighting systems, fences, surveillance equipment (e.g., Closed Circuit Television (CCTV), computers and software, fax machines, cameras, monitors, and supporting equipment), bolts, locks, and landscaping or reconfiguring common areas to discourage drug-related crime.

(i) All physical improvements must be accessible to persons with disabilities. For example, locks or buzzer systems that are not accessible to persons with restricted or impaired strength, mobility, or hearing may not be funded by IHDEP. Defensible space improvements must comply with civil rights requirements and cannot exclude or segregate people because of their race, color, or national origin from benefits, services, or other terms or conditions of housing. All physical improvements must meet the accessibility requirements of 24 CFR part 8 and the provisions found in section 504 of the Rehabilitation Act of 1973 and other relevant federal, State and local statutes that apply.

(ii) Funding is permitted for the purchase or lease of house trailers of any type that are not designated as a building if they are used for eligible community policing, educational programs for youth and adults, employment training facility, youth activities, and drug abuse treatment activities. A justification of purchase versus lease must be supported by your cost-benefit analysis.

(b) Ineligible Improvements. (i) Physical improvements that involve demolishing any units in a development.

(ii) Physical improvements that would displace persons are ineligible.

(iii) Acquiring real property.

(2) Programs to Reduce Drug Use (Prevention, Intervention, Treatment, Structured Aftercare and Support Systems). (a) General Requirements and Strategies. HUD is looking for you to structure your substance abuse prevention, intervention, treatment, and aftercare program using a “continuum of care” approach. A “continuum of care” approach includes not just treating the addiction or dependency but also providing aftercare, mentoring, and support services such as day care, family counseling, education, training, employment development opportunities, and other activities.

You must develop a substance abuse/sobriety (remission)/treatment (dependency) strategy to adequately plan your substance abuse prevention, intervention, treatment, and structured aftercare efforts. In many cases, you may want to include education, training, and employment opportunities for residents. When undertaking these activities, you should be leveraging your IHDEP resources with other Federal, State, local and Tribal resources. For example, your application may propose providing space and other infrastructure for these efforts with other tribal agencies providing staff and other resources at limited or no cost. Your application should also discuss how your strategy incorporates existing community resources and how they will be used in your program. The strategy should also document how community resources will be provided on-site, or how participants will be referred and transported to treatment programs that are not on-site.

A community-based approach also requires you to develop a culturally appropriate strategy. Curricula, activities, and staff should address the cultural issues of the local community, which requires your application to indicate your familiarity and facility with the language and cultural norms of the community. As applicable, your strategy should discuss cultural competencies associated specifically with your Native American or Alaskan Native community.

Your activities should focus resources directly to tribal residents and families.

For all activities involving education, training and employment, you should demonstrate efforts to coordinate with Federal, Tribal, State and local employment training and development services, including “welfare to work” efforts.

The current Diagnostic and Statistical Manual (DSM) of Mental Disorders of the American Psychiatric Association dated May 1994, contains information on substance abuse, dependency and structured aftercare. For more information about this reference, contact: APPI, 1400 K. Street, NW, Suite 1100, Washington, DC 20005 on 1(800) 368-5777 or World Wide Web site at http:\\www.appi.org.

Eligible activities may include:

(i) Substance abuse prevention, intervention, and referral programs;

(ii) Programs of local social, faith-based and/or other organizations that provide treatment services (contractual or otherwise) for dependency/remission; and

(iii) Structured aftercare/support system programs.

(b) Activities must be in the “Indian area”. IHDEP funding is permitted for programs that reduce/eliminate drug-related crime in the “Indian area” as defined in 24 CFR 1000.10 of the NAHASDA regulations as the area in which an Indian tribe operates affordable housing programs or the area in which a TDHE is authorized by one or more Indian tribes to operate affordable housing programs.

(c) Eligible cost. (i) Funding is permitted for reasonable, necessary, and justified purchasing or leasing (whichever is documented as the most cost effective) of vehicles for transporting adult and youth residents for education, job training, and off-site treatment programs directly related to reducing drugs and drug-related crime. The cost reasonableness can be determined by a comparison of the number of participants in and anticipated costs of these programs compared to the purchase or lease cost of the vehicles. If these costs are included in your application, you must include a description of why the expenses are necessary. Under no circumstances are these vehicles to be used for other than their intended purpose under your grant.

(ii) Funding is permitted for reasonable, necessary and justified program costs, such as meals and beverages incurred only for training, education and employment activities, including provisions for daycare and youth services directly related to reducing drugs and drug-related crime. Refer to Office of Management and Budget (OMB) Circular A-87, Cost Principles for State, Local and Indian Tribal Governments.

(d) Prevention. Prevention programs must demonstrate that they will provide directly, or otherwise make available, services designed to distribute substance/drug education information, to foster effective parenting skills, and to provide referrals for treatment and other available support services including daycare in the housing development or the community for tribal residents and families.

Prevention programs should provide a comprehensive prevention approach for residents that address the individual resident and his or her relationship to family, peers, and the community. Your prevention programs activities should identify and change the causal factors present in tribal communities that lead to drug-related crime thereby lowering the risk of drug usage. Many components of a comprehensive approach, including refusal and restraint skills training programs or drug, substance abuse/dependency and family counseling, and daycare may already be available in the tribal community developments and should be included to the maximum extent possible in your proposed program of activities.

The following eligible activities under a prevention program are discussed in more detail below: educational opportunities; family and other support services including daycare; youth services; and economic and educational opportunities for resident adult and youth activities.

(i) Educational Opportunities. The causes and effects of illegal drug/substance abuse must be discussed in a culturally appropriate and structured setting. You may contract (in accordance with 24 CFR 85.36) to provide such knowledge and skills through training programs. The professionals contracted to provide these services are required to base their services on your needs assessment and program plan. These educational opportunities may be a part of resident meetings, youth activities, or other gatherings of tribal housing residents.

(ii) Family and Other Support Services. “Supportive services” are services that allow families to have access to prevention, educational and employment opportunities. Supportive services may include: child care; employment training; computer skills training; remedial education; substance abuse counseling; help in getting a high school equivalency certificate; and other services to reduce drug-related crime.

(iii) Youth Services. Proposed youth prevention programs must demonstrate that they have included groups composed of young people ages 8 through 18. Your youth prevention activities should be coordinated by adults but have tribal youth actively involved in organizing youth leadership, sports, recreational, cultural and other activities. Eligible youth services may include: youth sports; youth leadership skills training; cultural and recreational activities/camps; youth entrepreneurship; negotiation, mediation/peacemaking; and cross-cultural communication. These youth services provide an alternative to drugs and drug-related criminal activity for Native American youth. Youth leadership skills training may include training in leadership, peer pressure reversal, resistance or refusal skills, life skills, goal planning, parenting skills, youth entrepreneurship; negotiation, mediation/peacemaking; and cross-cultural communication and other relevant topics. Youth leadership training should be designed to place youth in leadership roles including: mentors to younger program participants, assistant coaches, managers, and team captains. Cultural and recreational activities may include ethnic heritage classes, art, dance, drama and music appreciation.

The following are eligible youth services expenses:

(1) Salaries and expenses for staff for youth sports programs and cultural activities and leadership training;

(2) Sports and recreation equipment to be used by participants;

(3) Funding for non-profit subgrantees that provide scheduled organized sports competitions, cultural, educational, recreational or other activities, including but not limited to: United National Indian Tribal Youth, Inc. (UNITY); Wings of America, Native American Sports Council, Boys and Girls Clubs, YMCAs, YWCAs, the Inner City Games, Association of Midnight Basketball Leagues.

(4) Liability insurance costs for youth sports activities.

(iv) Economic and Educational Opportunities for Resident Adult and Youth. Your proposed economic and educational activities must provide residents opportunities for interaction with, or referral to, established higher education, vocational institutions ­-and/or private sector businesses in the immediate surrounding communities with the goal of developing or building on the residents' skills to pursue educational, vocational and economic goals and become self-sufficient.

You should discuss your economic and educational opportunities for residents and youth activities in the context of “welfare to work” and related Federal, Tribal, State and local government efforts for employment training, education and employment opportunities related to the goals of “welfare to work.” Establishing or referring adults and youths to computer learning centers, employment service centers (coordinated with Federal, Tribal, State and local employment offices), and micro-business centers are eligible activities. Funding is permitted for the purchase or lease of house trailers if they are used for the activities listed above and as specified in Section C.(1)(ii) of this NOFA.

Limited educational scholarships are permitted under this section. No one individual award may exceed $500, and there is a total maximum scholarship program cap of $10,000. Educational scholarship IHDEP funds must be obligated and expended during the term of your IHDEP grant which is (24) twenty-four months. You must demonstrate in your plan and timetable the scholarship strategy; the financial and management controls that will be used; and projected outcomes.

(e) Intervention. The aim of intervention is to identify or detect residents with substance abuse issues, assist them in modifying their behavior, and in getting early treatment, and structured aftercare.

(f) Substance Abuse/Dependency Treatment. (1) Treatment funded under this program should be “in and around” the premises of the housing authority/development(s) you proposed for funding. In undertaking substance abuse/dependency treatment programs, you must establish a confidentiality policy regarding medical and disability related information.

(i) Funds awarded for substance abuse/dependency treatment must be targeted towards developing and implementing, or expanding and improving sobriety maintenance, substance-free maintenance support groups, substance abuse counseling, referral treatment services, and short or long range structured aftercare for residents.

(ii) Your proposed drug program must address the following goals for residents:

(1) Increasing accessibility of treatment services;

(2) Decreasing drug-related crime “in and around” your tribal development(s) by reducing and/or eliminating drug use; and

(3) Providing services designed for youth and/or adult drug abusers and recovering addicts (e.g., prenatal and postpartum care, specialized family and parental counseling, parenting classes, domestic or youth violence counseling).

(iii) You must discuss in your overall strategy the following factors:

(1) Formal referral arrangements to other treatment programs in cases where the resident is able to obtain treatment costs from sources other than this program.

(2) Family/youth counseling.

(3) Linkages to educational and vocational training and employment counseling.

(4) Coordination of services from and to appropriate local substance abuse/treatment agencies, HIV-related service agencies, mental health and public health programs.

(iv) As applicable, you must demonstrate a working partnership with the Single State Agency or local, Tribal or State license provider or authority with substance abuse program(s) coordination responsibilities to coordinate, develop and implement your substance dependency treatment proposal.

(v) You must demonstrate that counselors (contractual or otherwise) meet Federal, State, Tribal, and local government licensing, bonding, training, certification and continuing training re-certification requirements.

(vi) You must get certification from the Single State Agency or tribal agency with substance abuse and dependency programs coordination responsibilities so that your proposed program is consistent with the tribal plan; and that the service(s) meets all Federal, State, Tribal and local government medical licensing, training, bonding, and certification requirements.

(vii) Funding is permitted for drug treatment of tribal residents at local in-patient medical treatment programs and facilities. IHDEP funding for structured in-patient drug treatment using IHDEP funds is limited to 60 days, and structured drug out-patient treatment, which includes individual/family aftercare, is limited to 6 months. If you are undertaking drug treatment programs, your proposal must demonstrate how individuals that complete drug treatment will be provided employment training, education and employment opportunities.

(viii) Funding is permitted for detoxification procedures designed to reduce or eliminate the short-term presence of toxic substances in the body tissues of a patient.

(ix) Funding is not permitted for maintenance drug programs. Maintenance drugs are medications that are prescribed regularly for a short/long period of supportive therapy (e.g. methadone maintenance), rather than for immediate control of a disorder.

(3) Resident Management Corporations (RMCs), Resident Councils (RCs), and Resident Organizations (ROs) Programs. RMCs, and incorporated RCs and ROs, may be a subcontractor to their Tribe/TDHE, to develop security and substance abuse prevention programs for residents. Such programs may include voluntary tenant patrol activities, substance abuse education, intervention, and referral programs, youth programs, and outreach efforts. The elimination of drug-related crime within the tribal community must have the active involvement and commitment of tribal residents and their organizations.

To enhance the ability of Tribes/TDHEs, to combat drug-related crime within their developments, RCs, RMCs, and ROs may undertake program management functions. Sub-contracts with the RMC/RC/RO must include the amount of funding, applicable terms, conditions, financial controls, payment mechanism schedule, performance and financial report requirements, special conditions, including sanctions for violating the agreement, and monitoring requirements.

Costs must not be incurred until a written contract is executed.

(4) Employment of Tribal Security Personnel. You may employ tribal security personnel. You are encouraged to involve police officials residing in tribal housing to partake in IHDEP security-related programs. The following specific requirements apply to all employment of security personnel activities funded under IHDEP:

(a) Compliance. Security guard personnel tribal police departments must meet and demonstrate compliance with, all relevant Federal, State, Tribal or local government insurance, licensing, certification, training, bonding, or other law enforcement requirements.

(b) Law Enforcement Service Agreement. You must enter into a law enforcement service agreement with the local law enforcement agency and if applicable, the contract provider of security. Your service agreement must include:

(i) The activities security guard personnel or the tribal police department will perform; the scope of authority; written policies, procedures, and practices that will govern security personnel or tribal police department performance (i.e., a policy manual and how security guard personnel or the tribal police department shall coordinate activities with your local law enforcement agency);

(ii) The types of activities that your approved security guard personnel or the tribal police department are expressly prohibited from undertaking.

(c) Policy Manual. Security guard personnel services and tribal police departments must be guided by a policy manual that directs the activities of its personnel and contains the policies, procedures, and general orders that regulate conduct and describes in detail how jobs are to be performed. The policy manual must exist before HUD will execute your grant agreement. To comply with State police department standards and/or Commission on Accreditation Law Enforcement Agencies (CALEA), you must also ensure all security guard personnel and tribal police officers are trained in the following areas. These areas must also be covered in your policy manual:

(i) Use of force;

(ii) Resident contacts;

(iii) Enforcement of HA rules;

(iv) Training in sex discrimination and sexual harassment;

(v) Training in civil rights;

(vi) Training in racial tolerance and diversity;

(vii) Response criteria to calls;

(viii) Pursuits;

(ix) Arrest procedures;

(x) Reporting of crimes and workload;

(xi) Feedback procedures to victims;

(xii) Citizens' complaint procedures;

(xiii) Internal affairs investigations;

(xiv) Towing of vehicles;

(xv) Authorized weapons and other equipment;

(xvi) Radio procedures internally and with local police;

(xvii) Training requirements;

(xviii) Patrol procedures;

(xix) Scheduling of meetings with residents;

(xx) Reports to be completed;

(xxi) Record keeping and position descriptions on all personnel;

(xxii) Post assignments;

(xxiii) Monitoring;

(xxiv) Self-evaluation program requirements;and

(xxv) First aid training.

(d) Data Management. A daily activity and incident complaint form approved by the Tribe/TDHE must be used by security personnel and officers for the collection and analysis of criminal incidents and responses to service calls. Security guard personnel and tribal police departments must establish and maintain a system of records management for the daily activity and incident complaint forms that appropriately ensures the confidentially of personal criminal information. Management Information Systems (MIS) (computers, software, and associated equipment) are eligible costs that the Tribe/TDHE may include in support of collection and analysis activities.

(5) Security Personnel Services. Contracting for, or direct tribal police department employment of, security personnel services in and around housing development(s) is permitted under this program. However, contracts for security personnel services must be awarded on a competitive basis.

(a) Eligible Services—Over and Above. Security guard personnel funded by this program must perform services that are over and above those usually performed by local municipal law enforcement agencies on a routine basis. Eligible services may include patrolling inside buildings, providing personnel services at building entrances to check for proper identification, or patrolling and checking car parking lots for appropriate parking decals.

(b) Employment of Residents. HUD encourages you to employ qualified resident(s) as security guard personnel, and/or to contract with security guard personnel firms that demonstrate a program to employ qualified residents as security guard personnel.

(c) If you are an applicant seeking funding for this activity, you must describe the current level of local law enforcement agency baseline services being provided to the tribal development(s) proposed for assistance. Local law enforcement baseline services are defined as ordinary and routine services provided to the residents as part of the overall city and/or county-wide deployment of police resources to respond to crime and other public safety incidents including: 911 communications, processing calls for service, routine patrol officer responses to calls for service, and investigative follow-up of criminal activity.

(d) If you are requesting funding for tribal police department officers, you must have car-to-car (or other vehicles) and portable-to-portable radio communications links between tribal police officers and local law enforcement officers to assure a coordinated and safe response to crimes or calls for services. The use of scanners (radio monitors) is not sufficient to meet the requirements of this section. If you do not have such links you must submit a plan and timetable for the implementation of such communications links.

(e) Community policing under IHDEP is defined as a method of providing law enforcement services partnership among residents, police, schools, churches, government services, the private sector, and other local, State, Tribal, and Federal law enforcement agencies to prevent crime and improve the quality of life by addressing the conditions and problems that lead to crime and fear of crime. Community policing uses proactive measures including foot patrols, bicycle patrols, and motor scooter patrols. It also includes activities where police officers operate out of police mini-stations, and other community-based facilities in tribal communities providing human resource activities with youth, and citizen contacts. This concept empowers police officers at the beat and zone level and residents in neighborhoods to:

(i) Reduce crime and fear of crime;

(ii) Ensure the maintenance of order;

(iii) Provide referrals of residents, victims, and homeless persons to social services and government agencies;

(iv) Ensure feedback of police actions to victims of crime; and

(v) Promote a law enforcement value system based on the needs and rights of residents.

(6) Reimbursement of Local Law Enforcement Agencies for Additional (Supplemental—Over and Above Local Law Enforcement Baseline Services) Security and Protective Services. Additional security and protective services are permitted if services are over and above the local police department's current level of baseline services. Tribes and TDHEs are required to identify the level of local law enforcement services received and the increased level of services to be received in their local Cooperation Agreement.

(7) Employment of Investigators. Employment of, and equipment for, one or more individuals to investigate drug-related crime “in and around” the real property comprising your development(s) and providing evidence relating to such crime in any administrative or judicial proceedings is permitted. Under this section, reimbursable costs associated with the investigation of drug-related crimes (e.g., travel directly related to the investigator's activities, or costs associated with the investigator's testimony at judicial or administrative proceedings) may only be those directly incurred by the investigator.

(a) If you are a tribe/TDHE that employs investigators funded by this program, you must demonstrate compliance with all relevant Federal, Tribal, State or local government insurance, licensing, certification, training, bonding, or other similar law enforcement requirements.

(b) Both you and the provider of the investigative services are required to execute a written agreement that describes the following:

(i) The activities that your investigators will perform, their scope of authority, reports to be completed, established investigative policies, procedures, and practices that will govern their performance (i.e., a Policy Manual) and how your investigators will coordinate their activities with local, State, Tribal, and Federal law enforcement agencies; and prohibited activities.

(ii) The activities the Tribal investigators are expressly prohibited from undertaking.

(c) Your investigator(s) may use IHDEP funds to purchase or lease any law enforcement clothing or equipment, such as vehicles, uniforms, ammunition, firearms/weapons, or vehicles; including cars, vans, buses, protective vests, and any other supportive equipment.

(d) Your investigator(s) shall report on drug-related crime in your developments. You must establish, implement and maintain a system of records management that ensures confidentiality of criminal records and information. Tribal-approved activity forms must be used for collection, analysis and reporting of activities by your investigators. You are encouraged to develop and use Management Information Systems (MIS) (computers, software, hardware, and associated equipment) and hire management personnel for crime and workload reporting in support of your crime prevention and security activities.

(8) Voluntary Tenant Patrols. Members of tenant patrols must be volunteers and must be residents of the tribal development(s). Volunteers must have extensive background investigations to ensure there are no outstanding warrants or arrest records for past crimes, especially crimes against children. Voluntary tenant patrols are expected to patrol in your development(s) proposed for assistance, and to report illegal activities to appropriate local, State, Tribal, and Federal law enforcement agencies, as appropriate.

(a) Training equipment, including uniforms for use by voluntary tenant patrols acting in cooperation with officials of local law enforcement agencies is permitted. All costs must be reasonable, necessary and justified. Bicycles, motor scooters, all season uniforms and associated equipment to be used, exclusively, by the members of your voluntary tenant patrol are eligible items. Voluntary tenant patrol uniforms and equipment must be identified with your specific tribal development(s) identification and markings.

(b) Tribes/TDHEs are required to obtain liability insurance to protect themselves and the members of the voluntary tenant patrol against potential liability for the activities of the patrol under this program. The cost of this insurance is eligible.

(c) If you are funding voluntary tenant patrol activities, you, your local law enforcement agency, and the tenant patrol, before expending grant funds, are required to execute a written agreement that includes:

(i) The nature of the activities to be performed by your voluntary tenant patrol, the patrol's scope of authority, assignment, policies, procedures, and practices that will govern the voluntary tenant patrol's performance and how the patrol will coordinate its activities with the law enforcement agency;

(ii) The activities the voluntary tenant patrol is expressly prohibited from undertaking and that the carrying or use of firearms, weapons, nightsticks, clubs, handcuffs, or mace is prohibited;

(iii) Required initial and on-going voluntary tenant patrol training members will receive from the local law enforcement agency; (please note that training by HUD-approved trainers and/or the local law enforcement agency is required before putting a voluntary tenant patrol into effect); and

(iv) Voluntary tenant patrol members will be subject to individual or collective liability for any actions undertaken outside the scope of their authority (described in paragraph (ii) above) and that such acts are not covered under your housing authority liability insurance.

(d) IHDEP grant funds must not be used for any type of financial compensation, such as full-time wages or salaries for voluntary tenant and/or patrol participants. Funding for tribe/TDHE personnel or resident(s) to be hired to coordinate this activity is permitted. Excessive staffing is not permitted.

(9) Evaluation of IHDEP Activities. Funding is permitted to contractually hire organizations and/or consultant(s) to conduct an independent assessment and evaluation of the effectiveness of your IHDEP program.

(D) Ineligible Activities. IHDEP funding is not permitted for any of the activities listed below.

(1) Costs incurred before the effective date of your grant agreement (Form HUD-1044), including, but not limited to, consultant fees related to the development of your application or the actual writing of your application.

(2) The purchase of controlled substances for any purpose. Controlled substance shall have the meaning provided in section 102 of the Controlled Substance Act (21 U.S.C. 802).

(3) Compensation of informants, including confidential informants. These should be part of the baseline services provided and budgeted by local law enforcement agencies.

(4) Direct purchase or lease of clothing or equipment, vehicles (including cars, vans, and buses), uniforms, ammunition, firearms/weapons, protective vests, and any other supportive equipment for use in law enforcement or military enforcement except for eligible tribal police department and investigator activities listed in this NOFA.

(5) Construction of facility space in a building or unit, and the costs of retrofitting/modifying existing buildings owned by the tribe/TDHE for purposes other than: community policing mini-station operations, adult/youth education, employment training facilities, and drug abuse treatment activities.

(6) Organized fund raising, advertising, financial campaigns, endowment drives, solicitation of gifts and bequests, rallies, marches, community celebrations, stipends and similar expenses.

(7) Court costs and attorneys fees related to screening or evicting residents for drug-related crime are not allowable.

(8) IHDEP grant funds cannot be transferred to any Federal agency.

(9) Costs to establish councils, resident associations, resident organizations, and resident corporations are not allowable.

(10) Indirect costs are not allowable.

(11) Supplant existing positions/activities. For purposes of the IHDEP, supplanting is defined as “taking the place of or to supersede”.

(12) Alcohol-exclusive activities and programs are not eligible for funding under this NOFA, although activities and programs may address situations of multiple abuse involving controlled substances and alcohol.

IV. Program Requirements

The following requirements apply to IHDEP funding:

(A) Grant Award Amounts. HUD is distributing grant funds for IHDEP under this NOFA on a national competition basis. The maximum grant award amounts are computed for IHDEP on a sliding scale, using an overall maximum cap, depending upon the number of Tribe/TDHE units eligible for funding. This figure (number of eligible units for funding) will determine the grant amount that the Tribe/TDHE is eligible to receive if they meet the IHDEP criteria and score a minimum of 70 out of 105 points.

(1) Amount per unit. (a) For tribes/TDHEs with 1-1,250 units: The maximum grant award cap is $600 multiplied by the number of eligible units.

(b) For tribes/TDHEs with 1,251 or more units: The maximum grant award cap is $520 multiplied by the number of eligible units; up to, but not to exceed, a maximum grant award of $3 million dollars.

(2) Units counted. (a) The unit count includes rental, Turnkey III and Mutual Help Homeownership units which have not been conveyed to a homebuyer, and Section 23 lease housing bond-financed projects. Such units must be counted as Formula Current Assisted Stock under the Indian Housing Block Grant Program.

(b) Eligible units are those units which are under management and fully developed.

(c) Use the number of units counted as Formula Current Assisted Stock for Fiscal Year 2000 as defined in 24 CFR 1000.316. Please verify your Formula Current Assisted Stock figures with your local AONAP for accuracy.

(d) Units that are developed or assisted under NAHASDA are not included in the unit count outlined above, however, they are eligible to receive assistance under the IHDEP.

(B) Complying with Civil Rights Requirements. To protect and insure the civil rights of occupants of HUD-sponsored housing and residents around that housing, your proposed strategies should ensure that you do not undertake crime-fighting and drug prevention activities that violate civil rights and fair housing statutes. You may not use race, color, sex, religion, national origin, disability or familial status to profile persons as suspects or otherwise target them in conducting these activities. You are encouraged to involve as many segments of your intended population as possible in developing and implementing your strategies.

(C) Confidentiality of Records Requirements. You must establish a confidentiality policy regarding medical and disability-related information for programs involving prevention, intervention, or substance abuse/dependency treatment and aftercare.

(D) Commingling of Funds. Tribes or TDHEs must not commingle funds of multiple HUD programs including: Economic Development and Supportive Services (EDSS); Tenant Opportunity Program (TOP); Indian Housing Block Grant (IHBG); and Family Investment Center (FIC). In Fiscal Year 2000, funding for EDSS and TOP activities was replaced by the new Resident Opportunities and Self-Sufficiency (ROSS) Program. The first ROSS notice of funding availability was published as part of HUD's SuperNOFA, published on February 24, 2000. (See 65 FR 9322 at 9697.)

(E) Term of Grant. Your grant funds must be expended within 24 months after HUD executes a Grant Agreement. There will be no extensions of this grant term and at the end of the grant term all unspent funds will be returned to HUD.

(F) Reports and Close-out. (1) In accordance with 24 CFR 761.35, if funded, you are required to submit semiannually a IHDEP Semi-Annual Performance Report and the Semi-Annual Financial Status Report (SF-269A) to the appropriate HUD AONAP. These IHDEP Semi-Annual Performance Reports shall cover the periods ending June 30 and December 31, and must be submitted to HUD by July 30 and January 31 of each year.

(2) At grant completion, you must comply with the close-out requirements described in Public Housing Notice PIH 98-60(HA), entitled “Grant Close-out Procedures,” and by the end of the grant term, return unexpended grant funds to the Department, according to applicable requirements.

V. Application Selection Process

(A) Rating and Ranking. (1) General. HUD will rate and rank applications based on the 5 rating factors listed in Section V. (B) of this NOFA, below. HUD will select and fund the highest ranking applications based on total score, and continue the process until all funds allocated to it have been awarded or to the point where there are insufficient acceptable applications to award funds. The maximum number of points for this program is 105.

(2) Tiebreakers. In the event of a tie, HUD will select the highest ranking application that can be fully funded. In the event that two eligible applications receive the same score, and both cannot be funded because of insufficient funds, the applicant with the highest score in rating factor two will be funded. If rating factor two is scored identically, the scores in rating factors one and four will be compared in that order, until one of the applications receives a higher score. If both applications still score the same then the application which requests the least funding will be selected in order to promote the more efficient use of resources.

(B) Factors For Award to Evaluate and Rank Applications. Your application must address the five (5) factors, and subfactors listed below. The maximum number of points for this program is 105. Your application must receive a score of at least 70 points to be eligible for funding.

Rating Factor 1: Capacity of the Applicant and Relevant Organizational Experience (20 Points)

This factor addresses the extent to which you have the capacity, the proper organizational experience and resources to implement the proposed activities in a timely and effective manner. The rating of the “applicant” or the “applicant's organization and staff” for technical merit, unless otherwise specified, includes any subcontractors, consultants, subrecipients, and members of consortia which are firmly committed to your project. In rating this factor, HUD will consider the following:

(1) (10 points) The knowledge and experience of your staff and your administrative capability to manage grants of this size and type. This includes your administrative support and procurement entities, defined organizational lines of authority, and demonstrated fiscal management capacity.

(2) (10 points) Past performance in administering Drug Elimination grants and/or other Federal, state or local grants of similar size and complexity during the last three (3) years.

You must identify your participation in HUD grant programs within the last three years and discuss the degree of your success in implementing planned activities, achieving program goals and objectives, timely drawdown of funds, timely submission of required reports with satisfactory outcomes within budget and schedule, audit compliance, whether there are, and the extent of any, unresolved findings and/or outstanding recommendations from prior HUD reviews or audits undertaken by HUD, HUD-Office of Inspector General, the General Accounting Office (GAO) or independent public accountants (IPAs). For tribes/TDHEs that had previously applied as IHAs, HUD will consider the results of: agency monitoring of records, Line of Credit Control System Reports (LOCCS) on the status of prior grants, audits and other relevant information available to HUD on your capacity to undertake this grant.

Rating Factor 2: Need/Extent of the Problem (30 Points)

This factor examines the extent to which there is a need for funding the proposed program activities to address a documented problem in your proposed target area (i.e., the degree of the severity of the drug-related crime problem in the project proposed for funding). In responding to this factor, you will be evaluated on: (1) The extent to which a critical level of need for your proposed activities is explained; and (2) the urgency of meeting the need in the target area. You must include in your response a description of the extent and nature of drug-related crime “in or around” the housing units or developments proposed for funding.

Applicants will be evaluated on the following:

(1) (15 points) “Objective Crime Data” relevant to your target area. To the extent that you can provide objective drug-related crime data specific to the community or targeted development proposed for funding, you will be awarded up to 15 points or up to a total of 5 points if substantial information is provided as to why Objective Crime Data could not be obtained. Objective crime data must include the most current and specific Part I Crime data and relevant Part II Crime data available from the FBI's Uniform Crime Reporting Program (UCR) system or the local law enforcement's crime statistics. Part I Crimes include: homicide; rape; robbery; aggravated assault; burglary; larceny; auto theft; and arson. Part II drug-related crimes include: drug abuse violations; simple assault; vandalism; weapons violations; and other crimes which you are proposing to be targeted as part of your grant. In assessing this subfactor, HUD will consider the extent of specificity that the statistical data is provided and the data's specificity to the targeted sites (e.g., data specific to those targeted developments proposed for funding by Part I crime type versus tribe/TDHE-wide data by aggregated Part I crimes).

The objective crime data provided in your application will become a “baseline” against which the success of your grant activities will be measured if funded. If you did not provide objective crime data, please provide information as to why objective crime data could not be obtained; the efforts being made to obtain it; what efforts will be made during the grant period to begin obtaining the data; and an explanation of how you plan to measure how grant activities will result in reducing drug-related crime in the targeted developments and what will be used as a baseline.

(2) (15 Points) Other Data Supporting the extent of Drug and Drug-related Crime. You must identify supporting data indicating the extent of drugs and drug-related crime problems in the developments proposed for assistance under your program. HUD will consider the extent and quality of the data provided. Examples of the data include:

(a) Surveys of residents and staff in your targeted developments about drugs and drug-related crime or on-site reviews to determine drug/crime activity;

(b) Government or scholarly studies or other research in the past year that analyze drug-related crime activity in your targeted developments.

(c) Annual vandalism cost at your targeted developments, to include elevator vandalism (where appropriate) and other vandalism attributable to drug-related crime as a ratio to total annual approved budget for the targeted developments.

(d) Information from schools, health service providers, residents and Federal, State, local, and Tribal officials, and the verifiable opinions and observations of individuals having direct knowledge of drug-related crime and the nature and frequency of these problems in developments proposed for assistance. (These individuals may include Federal, State, Tribal, and local government law enforcement officials, resident or community leaders, school officials, community medical officials, substance abuse, treatment (dependency/remission) or counseling professionals, or other social service providers).

(e) The school dropout rate and level of absenteeism for youth that you can relate to drug-related crime as a percentage or ratio of the rate outside the area.

(f) The number of lease terminations or evictions for drug-related crime at the targeted developments; and

(g) The number of emergency room admissions for drug use or that result from drug-related crime. Such information may be obtained from police departments and/or fire departments, emergency medical service agencies and hospitals.

(h) The number of police calls for service from tribe/TDHE developments that include resident initiated calls, officer-initiated calls, domestic violence calls, drug distribution complaints, found drug paraphernalia, gang activity, graffiti that reflects drugs or gang-related activity, vandalism, drug arrests, and abandoned vehicles.

Rating Factor 3: Soundness of Approach—(Quality of the Plan) (35 Points)

This factor examines the quality and effectiveness of your proposed work plan. In rating this factor, HUD will consider the impact of your activities on the drug and drug-related crime problems identified in Factor 2 and the extent to which you identify attainable goals, objectives, and performance measures to ensure that; tangible benefits can be attained by the community and by your target population.

Your application must include a detailed narrative describing: each proposed activity for your developments proposed for assistance; the amount and extent of resources committed to each activity or service proposed; measurable goals and objectives for all major program activities that focus on outcome and results; and the process used to collect the data needed to report progress made against these goals.

In evaluating this factor, HUD will consider the following:

(1) The strength of your plan to address the drug-related crime problem, and the problems associated with drug-related crime in your developments proposed for funding, the resources allocated, and how well the proposed activities fit with the plan, including:

(a) The extent to which you have stated:

(i) Performance goals that will measure program outcomes;

(ii) The actual baseline data which will establish a starting point against which program outcomes will be measured and stated expected results for all major grant activities proposed in your application; What performance measurement system exists for providing information to HUD semi-annually on progress made in achieving the established outcome goals.

(b) The extent to which you have designed your major activities to meet stated, measurable goals and objectives for drug and drug-related crime reduction. Outcomes include accomplishments, results, impact, and the ultimate effects of your program on the drug or crime problem in your target/project area. The goals must be objective, quantifiable, and/or qualitative and they must be stated in such a way that at the end of the 24 month grant, one can determine if the activities were effective.

(c) The extent to which you define specific crime reduction goals that are measurable. For example, “eliminating or reducing crime and drug-related crime” is not a specific nor measurable goal, whereas a goal of, “reducing Part 1 reported homicides or Part II drug abuse, etc. by 5% in development X by the end of the 24 month grant period based on measurements against the baseline year crime selection rate in the targeted development X as stated in the application,” is specific and measurable.

(d) The rationale for your proposed activities and methods used including evidence that proposed activities have been effective in similar circumstances in controlling drug-related crime.

(e) Provide evidence of existing youth programs and activities that reduce substance abuse among youth, aftercare services for youth involved in the juvenile justice system, social services for children with emotional and behavioral problems, programs to reduce delinquency and gang participation, improve academic performance and reduce the dropout rate through the use of mentors, drug and alcohol education, conflict resolution and counseling.

Rating Factor 4: Leveraging Resources—(Support of Residents, the Local Government and the Community in Planning and Implementing the Proposed Activities) (10 Points)

This factor addresses your ability to secure community and government resources that can be combined with HUD's program resources to achieve program purposes.

(1) In assessing this factor, HUD will consider the following:

(a) Written evidence of firm commitment of funding, staff, or in-kind resources, partnership agreements, and on-going or planned cooperative efforts with law enforcement agencies, local, State, Tribal or national entities who have committed services through a memoranda of understanding (MOU), or memorandum of agreements (MOA) to participate. Such commitments must be signed by an official of the organization legally able to make commitments for the organization.

(b) This evidence of commitment must include organization name, resources, and responsibilities of each participant to increase the effectiveness of the proposed program activities. The signed, written agreement may be contingent upon an applicant receiving a grant award. This also includes interagency activities already undertaken, participation in local, state, Tribal or Federal anti-drug related crime efforts such as: education, training and employment provision components of Welfare Reform efforts which may include descriptions of Tribal TANF plans and participation in Native Employment Works (NEW) program, or any of the following programs administered by the Department of Justice such as Operation Weed and Seed, Community Oriented Policing Services Tribal Resources Grant Program (COPS), Indian Tribal Courts, Drug-Free Communities Support Program, Tribal Youth Program, Safe Start Initiative, STOP Violence Against Indian Women Discretionary Grants and Mental Health and Juvenile Justice Program. Successful coordination of your law enforcement, or other activities with local, state, Tribal or Federal law enforcement agencies to foster meaningful collaborations and strengthen community anti-drug coalition efforts to reduce substance abuse among youth and adults and actions implemented to eradicate violent crime.

(2) In evaluating this factor, HUD will also consider the extent to which these initiatives are used to leverage resources for your tribe/TDHE community, and are part of the comprehensive plan and performance measures outlines in Rating Factor 3, Soundness of Approach—Quality of the Plan.

(a) Your application must describe what role residents in your targeted developments, applicable community leaders and organizations, and law enforcement agencies have had in planning the activities described in your application, what role they will have in implementing such activities for the duration of your grant and how services may be sustained beyond the grant term.

(b) Your application must include a discussion and written evidence (i.e., comments from residents, minutes from community meetings) of the extent to which community representatives and Tribal, local, state and Federal Government officials, including law enforcement agency officials were actively involved in the design and implementation of your plan and will continue to be involved in implementing such activities during and after the period of your IHDEP funding.

(c) Your application must demonstrate the extent to which the relevant governmental jurisdiction has met its local law enforcement obligations under the Cooperation Agreement with your organization (as required by the Annual Contributions Contract with HUD). You must describe the current level of baseline local law enforcement services being provided to your housing authority/developments proposed for assistance.

Rating Factor 5: Comprehensiveness and Coordination (10 Points)

This factor addresses the extent to which you have coordinated your activities with other known organizations, and is working towards addressing a need in a holistic and comprehensive manner through linkages with other activities in your community. In evaluating this factor, HUD will consider the extent to which you can demonstrate you have:

(1) Coordinated your proposed activities with those of other groups or organizations prior to submission in order to best complement, support and address the needs of your community as identified in Rating Factor 2: Need/Extent of the Problem. Any written agreements, MOUs/MOAs in place, or that will be in place after award should be described and/or included.

(2) Taken specific steps to become active in your community's Indian Housing Block Grant process by providing evidence that you have addressed crime prevention and safety issues, and that your proposed activities reflect the priorities, needs, goals or objectives of crime prevention and safety in the Indian Housing Plan (IHP).

(3) Taken specific steps to develop linkages to coordinate comprehensive solutions through meetings, information networks, planning processes or other mechanisms with:

(a) Other HUD-funded projects/activities outside the scope of those covered by the IHP; and

(b) Other Federal, State, or locally funded activities, including those proposed, or on-going that will sustain a comprehensive system to address the needs of your community.

VI. Application Submission Requirements

(A) You must submit the required IHDEP FY 1999-2000 Application Kit that contains all of the requisite forms in order to be considered for IHDEP funding. Your application submitted to HUD must also include items required under Section V. Application Selection Process, of this NOFA, including the plan to address the problem of drug-related crime in the developments proposed for funding.

(B) You must submit no more than one application per Tribe or TDHE on behalf of the Tribe for the IHDEP. In addition, joint applications that include more than one TDHE representing the Tribe are permitted only in those cases where they have a single administration (such as a TDHE managing several tribes under contract or TDHEs sharing a common executive director). In those cases, a separate budget, plan and timetable, and unit count shall be supplied in the application. In addition, you must respond to the factors for award for each tribe/TDHE for which you are acting as administrator and requesting funds, if your responses would be different (e.g., the tribes are in different jurisdictions and, therefore, the Indian Housing Plans, crime data, etc. would all be different). The application kit includes the forms, certifications and assurances required under this NOFA.

(C) Each IHDEP application must include the following items:

(1) An application cover letter.

(2) A summary of the proposed program activities in five (5) sentences or less.

(3) A description of the subgrantees, if applicable. The description must include the names of the subgrantees, as well as the relative roles and contributions of each subgrantee in implementing the IHDEP grant activities.

(4) An overall budget and timetable that includes separate budgets, goals, and timetables for each activity, and addresses milestones towards achieving each described goal. You must also describe the contributions and implementation responsibilities of each partner for each activity, goal, and milestone.

(5) A description of the number of staff, the titles, professional qualifications, and respective roles of the staff assigned full or part-time to grant implementation.

(6) Lines of accountability (including an organization chart) for implementing the grant activity, coordinating the partnership, and assuring that the commitment made by you and your subgrantees, if any, will be met.

(7) A narrative of the plan that will address the problem of drug-related crime in the developments proposed for funding.

(8) Responses to each of the five Rating Factors in this NOFA: (1) Capacity of the Applicant and relevant organizational Experience, (2) Need/Extent of the Problem, (3) Soundness of Approach, (4) Leveraging Resources and (5) Comprehensiveness and Coordination.

(9) The following forms which are included in the FY 1999—2000 IHDEP Application Kit: Standard Form-424, Application for Federal Assistance, Congressional Notification, Standard Form-424A, Budget Information (non-construction programs), with activity budget narrative/and supporting documentation, as applicable, attachment, Executive Summary and Implementation Schedule, Standard Form-424B, Assurances, (non-construction programs), Standard Form-2880, Applicant/Recipient Disclosure/Update Report, Application Cover Letter, Budget Narrative, Form HUD-50070 Drug-Free Workplace Certification, Form HUD-50071 Lobbying Certification, SF-LLL Disclosure of Lobbying Activities Certification, Standard Form, Certification of Debarment and Suspension, Certification of Consistency with the Indian Housing Plan, Certification of Resident Management Corporations, Resident Councils, Resident Organizations and Residents, and Acknowledgment of Application Receipt.

VII. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any selection factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by return receipt requested. You must submit clarifications or corrections of technical deficiencies in accordance with the information provided by HUD within 14 calendar days of the date of receipt of the HUD notification. If your deficiency is not corrected within this time period, HUD will reject your application as incomplete, and it will not be considered for funding.

VIII. Findings and Certifications

(A) Environmental Impact. A Finding of No Significant Impact with respect to the environment has been made in accordance with HUD regulations at 24 CFR part 50, implementing section 102(2)(C) of the National Environmental Policy Act of 1969 (42 U.S.C. 4332). The Finding of No Significant Impact is available for public inspection during business hours in the Office of the Rules Docket Clerk, Room 10276, Department of Housing and Urban Development, 451 Seventh Street, SW, Washington, DC 20410.

(B) Paperwork Reduction Act Statement. The information collection requirements contained in this Notice have been approved by the Office of Management and Budget under the Paperwork Reduction Act of 1995 (44 U.S.C. 3501-3520), and assigned OMB control number 2577-0124. An agency may not conduct or sponsor, and a person is not required to respond to, a collection of information unless the collection displays a valid control number.

(C) Prohibition Against Lobbying Activities. You the applicant may be subject to the provisions of section 319 of the Department of Interior and Related Agencies Appropriation Act for Fiscal Year 1991, 31 U.S.C. 1352 (the Byrd Amendment) prohibits recipients of Federal contracts, grants, or loans from using appropriated funds for lobbying the executive or legislative branches of the Federal Government in connection with a specific contract, grant, or loan. If you are subject, you are required to certify, using the certification found at Appendix A to 24 CFR part 87, that you will not, and have not, used appropriated funds for any prohibited lobbying activities. In addition, you must disclose, using Standard Form-LLL, “Disclosure of Lobbying Activities,” any funds, other than Federally appropriated funds, that will be or have been used to influence Federal employees, members of Congress, and congressional staff regarding specific grants or contracts.

Tribes and TDHEs established by an Indian tribe as a result of the exercise of the tribe's sovereign power are excluded from coverage of the Byrd Amendment, but tribes and TDHEs established under State law are not excluded from the statute's coverage.

(D) Section 102 of the HUD Reform Act; Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this NOFA as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (Form HUD-2880) submitted in connection with this NOFA. Update reports (also Form HUD-2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register on at least a quarterly basis to notify the public of all decisions made by the Department to provide:

(i) Assistance subject to section 102(a) of the HUD Reform Act; or

(ii) Assistance that is provided through grants or cooperative agreements on a discretionary (non-formula, non-demand) basis, but that is not provided on the basis of a competition.

(E) Section 103 HUD Reform Act. HUD's regulations implementing section 103 of the Department of Housing and Urban Development Reform Act of 1989 (42 U.S.C. 3537a), codified in 24 CFR part 4, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

(F) Catalog of Federal Domestic Assistance Number. The Catalog of Federal Domestic Assistance number for the Public and Indian Housing Drug Elimination Program is 14.854.

IX. Environmental Requirements

Certain eligible activities under this IHDEP NOFA are categorically excluded from review under the National Environmental Policy Act of 1969 (42 U.S.C. 4321) and are not subject to review under related laws, in accordance with 24 CFR 50.19(b)(4), (b)(12), or (b)(13). If the IHDEP application proposes the use of grant funds to assist any non-exempt activities, HUD will perform an environmental review to the extent required by 24 CFR part 50, prior to grant award.

X. Authority

Chapter 2, Subtitle C, Title V of the Anti-Drug Abuse Act of 1988 (42 U.S.C. 11901 et seq.), as amended.

Dated: May 8, 2000.
Harold Lucas,
Assistant Secretary for Public and Indian Housing.

BILLING CODE 4210-33-F

[FR Doc. 00-11882 Filed 5-10-00; 8:45 am]

BILLING CODE 4210-33-C